DEPARTMENT OF THE INTERIOR

Bureau of Land Management

[BC-621-1830-PF-24 1A]

Extension of Approved Information Collection, OMB Control Number 1004-0187

AGENCY: Bureau of Land Management, Interior.

ACTION: Notice and request for comments.

SUMMARY: In accordance with the Paperwork Reduction Act of 1995, the Bureau of Land Management (BLM) requests the Office of Management and Budget (OMB) to extend an existing approval to collect social security numbers or taxpayer identification numbers (SSN/TIN) from entities doing business with BLM. The BLM needs this information is case an entity fails to timely pay money owed, in which case BLM may refer the matter to the Treasury Department for collection. BLM uses Form 1372-6 to collect this information for debt collection purposes only under the Debt Collection Improvement Act of 1996.

DATES: You must submit your comments to BLM at the address below on or before August 24, 2004. BLM will not necessarily consider any comments received after the above date.

ADDRESSES: You may mail comments to: Regulatory Affairs Group (WO-630), Eastern States Office, 7450 Boston Blvd., Springfield, Virginia 22153.

You may send comments via Internet to: WOComment@blm.gov. Please include “Attn: 1004-0187” and your name and address with your comments.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Alice Sonne, National Business Center, Denver, Colorado, on (303) 236-6332 (Commercial or FTS). Persons who use a telecommunication device for the deaf (TDD) may call the Federal Information Relay Service (FIRS) on 1-800-877-8330, 24 hours a day, seven days a week, to contact Ms. Sonne.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The Debt Collection Improvement Act of 1996 (DCIA), 31 U.S.C. 3701, contains a number of provisions that affect how BLM does business. One of the more significant provisions allows BLM to refer debts delinquent over 180 days to the Treasury Department for collection. Another provision gives the Treasury Department increased flexibility in seeking to collect the debts by various offsets of payments, including tax refunds.

The DCIA requires that all Federal disbursements include the payee's SSN/TIN. This information aids the Treasury Department in matching debtors to payments and in seeking payments from the debtors. BLM uses Form 1372-6 to collect the payee's full name, address, and the SSN/TIN. We protect the SSN/TIN data under the Privacy Act.

Based on BLM's experience administering this program, we estimate the public reporting burden is 1 minute to complete Form 1372-6. These estimates include the time spent on research, gathering, and assembling information, reviewing instructions, and completing the respective form. BLM estimates 5,000 respondents with a total annual information collection burden of 83 hours. Respondents are those entities who do business with BLM. Entities include licensees, permittees, lessees, and contract holders. Individuals who pay one-time recreation fees do not have to complete this form.

Any member of the public may request and obtain, without charge, a copy of BLM Form 1372-6 by contacting the person identified under FOR FURTHER INFORMATION CONTACT.

BLM will summarize all responses to this notice and include them in the request for OMB approval. All comments will become a matter of a public record.

Dated: June 22, 2004.
Michael H. Schwartz,
Bureau of Land Management, Information Collection Clearance Officer.

[FR Doc. 04-14446 Filed 6-24-04; 8:45 am]

BILLING CODE 4310-84-M